DEPARTMENT OF ENERGY

State Energy Advisory Board

AGENCY: Department of Energy.

ACTION: Notice of open teleconference correction.

On June 27, 2007, the Department of Energy published a notice of open teleconference announcing a teleconference of the State Energy Advisory Board, 72 FR 35227. In that notice, the meeting was scheduled for July 19, 2007. Today's notice is announcing that the meeting date will be July 18, 2007.

Issued in Washington, DC on July 2, 2007.
Rachel M. Samuel,
Deputy Advisory Committee Management Officer.

[FR Doc. E7-13141 Filed 7-5-07; 8:45 am]

BILLING CODE 6450-01-P